GENERAL SERVICES ADMINISTRATION

Notice of Availability of a Draft Environmental Impact Statement for the Construction of a New Land Port of Entry in International Falls, Koochiching County, MI

AGENCY: Public Buildings Service, GSA.

ACTION: Notice of availability.

SUMMARY: In accordance with the National Environmental Policy Act (NEPA) and its implementing regulations, the U.S. General Services Administration (GSA), Great Lakes Region, announces the availability of a Draft Environmental Impact Statement (Draft EIS) assessing the potential impacts of a proposed new land port of entry (LPOE) in International Falls, Minnesota (the “Proposed Action”). At the request of Customs and Border Protection, the GSA is proposing to construct and operate a larger improved LPOE which meets the needs of the Federal Inspection Services and the design requirements of the GSA.

The existing facilities are undersized and functionally obsolete and, consequently, incapable of fully providing the level of security now required. The Proposed Action includes: (a) Identification of land requirements, including property acquisition; (b) demolition of existing government structures at the existing LPOE; (c) construction of a main administration building and ancillary support buildings; and (d) incorporation of the principles of sustainable design through the Leadership in Energy and Environmental Design Green Building Rating System of the U.S. Green Building Council.

The Proposed Action would improve the operational efficiency, safety, and security for federal agency personnel and cross-border travelers at International Falls, Minnesota. The specific objectives are to:

• Increase vehicle and pedestrian processing efficiency and capacity

• Reduce traffic queues and delays approaching the LPOE from both directions

• Minimize conflict points among different types of traffic crossing the border (passenger vehicles, commercial vehicles, trains, buses, and pedestrians)

• Add a functional secondary inspection area for commercial vehicles

• Accommodate future demands and new safety and security technologies and border initiatives

Alternatives being studied include alternative locations and layouts for the components of the LPOE that are identified in the concurrent GSA feasibility study including the main administration and ancillary support buildings, the associated transportation network, and parking. A no-build alternative also is being studied that evaluates the consequences of not constructing the LPOE. This alternative is included to provide a basis for comparison to the action alternatives described above as required by the NEPA regulations (40 CFR 1002.14(d)).

The GSA invites individuals, organizations and agencies to submit comments concerning the content and findings of the Draft EIS. The public comment period starts with the publication of this notice in the Federal Register and will continue for forty-five (45) days from the date of this notice. The GSA will consider and respond to comments received on the Draft EIS in preparing the Final EIS. The GSA expects to issue the Final EIS by Spring 2010 at which time its availability will be announced in the Federal Register and local media.

ADDRESSES: Written comments concerning the Draft EIS should be sent to Glenn Wittman, Regional Environmental Quality Advisor, U.S. General Services Administration, Public Buildings Service, Design & Construction Division, 230 South Dearborn Street, Room 3600, Chicago, IL 60604.

FOR FURTHER INFORMATION CONTACT: Glenn Wittman by phone at (312) 353-6871 or by e-mail at glenn.wittman@gsa.gov.

SUPPLEMENTARY INFORMATION: The public comment period provides stakeholders with an opportunity to comment on the content and findings of the EIS for the Proposed Action. Copies are being distributed to selected stakeholders and are available for public review at the International Falls Public Library, the International Falls Area Chamber of Commerce, and the Koochiching County Administration Office.

Dated: January 7, 2010.
J. David Hood,
Regional Commissioner, Public Buildings Service, Great Lakes Region.

[FR Doc. 2010-559 Filed 1-13-10; 8:45 am]

BILLING CODE 6820-A9-P